DEPARTMENT OF DEFENSE

Department of the Air Force

GPS Satellite Simulator Control Working Group Meeting

AGENCY: Space and Missile Systems Center, Global Positioning Systems (GPS) Directorate, Department of the Air Force, DOD.

ACTION: Meeting notice.

SUMMARY: This meeting notice is to inform GPS simulator manufacturers, who supply simulator products to the Department of Defense (DoD) GPS simulator users, that the GPS Directorate will host a GPS Satellite Simulator Control Working Group (SSCWG) meeting on 31 July 2015 from 0900-1300 PDT at Los Angeles Air Force Base.

The purpose of this meeting is to disseminate information about GPS simulators, discuss current efforts related to GPS simulators, and to discuss future GPS simulator development. This event will be conducted as a classified meeting.

FOR FURTHER INFORMATION CONTACT: We request that you register for this event no later than 27 July 2015. Please send your registration (name, organization, and email address) to wayne.urubio.3@us.af.mil and have your security personnel submit your VAR through JPAS SMO Code: GPSD and POC: Lt Wayne Urubio, 310-653-4603. For non-JPAS users, please have your security personnel fax your information to 310-653-4868. Please visit http://www.gps.gov/technical/sscwg/ for information regarding an address and a draft agenda.

Henry Williams,
Acting Air Force Federal Register Liaison Officer, DAF.

[FR Doc. 2015-15699 Filed 6-25-15; 8:45 am]

BILLING CODE 5001-10-P